NUCLEAR REGULATORY COMMISSION

[Docket No. 40-8698]

Plateau Resources Limited

AGENCY: U.S. Nuclear Regulatory Commission.

ACTION: Notice of receipt of a request from Plateau Resources Limited to amend Source Material License SUA-1371 for the Shootaring Canyon Uranium Mill in Garfield County, Utah to authorize the receipt and disposal of Atomic Energy Act of 1954, as amended, 11e.(2) byproduct material and notice of opportunity for a hearing.

SUMMARY: In a letter dated March 22, 2000, Plateau Resources Limited (PRL) requested that the U.S. Nuclear Regulatory Commission (NRC) amend Source Material License SUA-1371 for the Shootaring Canyon Uranium Mill in Garfield County, Utah to authorize the receipt and disposal of Atomic Energy Act of 1954, as amended (AEA), 11e.(2) byproduct material. The AEA defines 11e.(2) byproduct material as “the tailings or wastes produced by the extraction or concentration of uranium or thorium from any ore processed primarily for its source material content.” In support of its letter request, PRL enclosed a detailed report titled Supplement to Environmental Report, also dated March 22, 2000. The Supplement to Environmental Report provides the basis for the PRL request, a detailed description of the proposed action, and an environmental assessment of the impacts of the proposal to receive and dispose of off-site generated 11e.(2) byproduct material.

FOR FURTHER INFORMATION CONTACT: Mr. Richard Weller, Uranium Recovery and Low-Level Waste Branch, Division of Waste Management, Office of Nuclear Material Safety and Safeguards, U.S. Nuclear Regulatory Commission, Mail Stop T7-J8, Washington, DC 20555. Telephone (301) 415-7287.

SUPPLEMENTARY INFORMATION: The uranium mill at Shootaring Canyon operated for only three months in 1982, generating a small amount of mill tailings (11e.(2) byproduct material). The mill has been on standby status since that time. Currently, the impoundment at Shootaring Canyon for disposal of uranium mill tailings is filled to only about 1% of its licensed capacity and PRL proposes to use a portion of this available capacity to receive and dispose of off-site generated 11e.(2) byproduct material. PRL intends to employ the proper procedures and controls to ensure that only 11e.(2) byproduct material will be accepted for disposal.

PRL's request to amend Source Material License SUA-1371 to authorize the receipt and disposal of 11e.(2) byproduct material, including the report titled Supplement to Environmental Report, is being made available for public inspection at the NRC's Public Document Room at 2120 L Street, NW (Lower Level), Washington DC 20555.

The NRC hereby provides notice of an opportunity for a hearing on the license amendment request under the provisions of 10 CFR Part 2, Subpart L, “Informal Hearing Procedures for Adjudications in Materials and Operator Licensing Proceedings.” Pursuant to § 2.1205(a), any person whose interest may be affected by this proceeding may file a request for a hearing. In accordance with § 2.1205(d), a request for a hearing must be filed within 30 days of the publication of this notice in the Federal Register. The request for a hearing must be filed with the Office of the Secretary, either:

(1) By delivery to the Rulemakings and Adjudications Staff of the Office of the Secretary at One White Flint North, 11555 Rockville Pike, Rockville, MD 20852; or

(2) By mail or telegram addressed to the Secretary, U.S. Nuclear Regulatory Commission, Washington, DC 20555, Attention: Rulemakings and Adjudications Staff.

In accordance with 10 CFR 2.1205(f), each request for a hearing must also be served, by delivering it personally or by mail, to:

(1) The applicant, Plateau Resources Limited, 877 North 8th West, Riverton, Wyoming 82501, Attention: Fred Craft; and

(2) The NRC staff, by delivery to the Executive Director for Operations, One White Flint North, 11555 Rockville Pike, Rockville, MD 20852, or by mail addressed to the Executive Director for Operations, U.S. Nuclear Regulatory Commission, Washington, DC 20555.

In addition to meeting other applicable requirements of 10 CFR Part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to David L. Meyer, Chief, Rules Review and Directives Branch, Division of Freedom of Information and Publications Services, Office of Administration, U.S. Nuclear Regulatory Commission, Washington, DC 20555.

Any hearing that is requested and granted will be held in accordance with the Commission's “Informal Hearing Procedures for Adjudications in Materials and Operator Licensing Proceedings” in 10 CFR Part 2, Subpart L.

Dated at Rockville, Maryland, this 18th day of May 2000.
For the Nuclear Regulatory Commission.
Thomas H. Essig,
Chief, Uranium Recovery and Low-Level Waste Branch, Division of Waste Management, Office of Nuclear Material Safety and Safeguards.

[FR Doc. 00-13159 Filed 5-24-00; 8:45 am]

BILLING CODE 7590-01-P